DEPARTMENT OF ENERGY

Federal Energy Regulatory Commission

Combined Notice of Filings

Take notice that the Commission has received the following Natural Gas Pipeline Rate and Refund Report filings:

Filings Instituting Proceedings

Docket Numbers: PR22-69-000.

Applicants: Columbia Gas of Ohio, Inc.

Description: § 284.123 Rate Filing: COH SOC Rates effective August 29 2022 to be effective 8/29/2022.

Filed Date: 9/27/22.

Accession Number: 20220927-5045.

Comment Date: 5 p.m. ET 10/18/22.

Docket Numbers: PR22-70-000.

Applicants: BBT Bamagas Intrastate, LLC.

Description: Pay fee; use etariff to file BBT Bamagas Intrastate, LLC.

Filed Date: 9/27/22.

Accession Number: 20220927-5041.

Comment Date: 5 p.m. ET 10/18/22.

Docket Numbers: PR22-70-000.

Applicants: BBT Bamagas Intrastate, LLC.

Description: § 284.123 Rate Filing: BBT Bamagas Intrastate Rate Filing to be effective 9/27/2022.

Filed Date: 9/27/22.

Accession Number: 20220927-5109.

Comment Date: 5 p.m. ET 10/18/22.

Docket Numbers: PR22-71-000.

Applicants: Boardwalk Texas Intrastate, LLC.

Description: § 284.123(g) Rate Filing: Petition for Section 311 Rate Approval to be effective 10/1/2022.

Filed Date: 9/28/22.

Accession Number: 20220928-5093.

Comment Date: 5 p.m. ET 10/19/22.

Docket Numbers: PR22-71-000.

Applicants: Boardwalk Texas Intrastate, LLC.

Description: Pay fee; use etariff to file Boardwalk Texas Intrastate, LLC.

Filed Date: 9/27/22.

Accession Number: 20220927-5103.

Comment Date: 5 p.m. ET 10/18/22.

Docket Numbers: RP22-1253-000.

Applicants: Trunkline Gas Company, LLC.

Description: Compliance filing: Annual Report of Flow Through filed 9-28-22 to be effective N/A.

Filed Date: 9/28/22.

Accession Number: 20220928-5054.

Comment Date: 5 p.m. ET 10/11/22.

Docket Numbers: RP22-1254-000.

Applicants: Trunkline Gas Company, LLC.

Description: § 4(d) Rate Filing: Update to GT&C Section 22 to be effective 10/28/2022.

Filed Date: 9/28/22.

Accession Number: 20220928-5061.

Comment Date: 5 p.m. ET 10/11/22.

Docket Numbers: RP22-1255-000.

Applicants: Cimarron River Pipeline, LLC.

Description: § 4(d) Rate Filing: Fuel Tracker—2022 Winter Season Rates to be effective 11/1/2022.

Filed Date: 9/28/22.

Accession Number: 20220928-5097.

Comment Date: 5 p.m. ET 10/11/22.

Docket Numbers: RP22-1256-000.

Applicants: Southern Star Central Gas Pipeline, Inc.

Description: § 4(d) Rate Filing: Cash-Out Refund Tolerance to be effective 11/1/2022.

Filed Date: 9/28/22.

Accession Number: 20220928-5119.

Comment Date: 5 p.m. ET 10/11/22.

Docket Numbers: RP22-1257-000.

Applicants: Transcontinental Gas Pipe Line Company, LLC.

Description: § 4(d) Rate Filing: Non-Conforming—CEC—VNG—Emporia Facilities Surcharge to be effective 11/1/2022.

Filed Date: 9/28/22.

Accession Number: 20220928-5132.

Comment Date: 5 p.m. ET 10/11/22.

Any person desiring to intervene or protest in any of the above proceedings must file in accordance with Rules 211 and 214 of the Commission's Regulations (18 CFR 385.211 and 385.214) on or before 5 p.m. eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2022.
Debbie-Anne A. Reese,
Deputy Secretary.

[FR Doc. 2022-21612 Filed 10-4-22; 8:45 am]

BILLING CODE 6717-01-P